DEPARTMENT OF THE INTERIOR

Bureau of Land Management

[ID 100 1220MA 214A: DBG071005]

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held February 27, 2007, beginning at 9 a.m. and adjourning at 1 p.m. The meeting will be held at the Boise District Office located at 3948 Development Avenue, Boise Idaho. Public comment periods will be held after each of the topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho.

The Board will formally approve the members of the new RAC Recreation Subcommittee, including one non-RAC member. BLM will review with the RAC Members, responses to comments that were received on the Draft Environmental Impact Statement (DEIS) for the Snake River Birds of Prey National Conservation Area, Resource Management Plan (RMP) and any substantive changes made to the document as a result. The RAC will be given a brief status report on the development of the Bruneau RMP, and a discussion will be held about comments and questions received from RAC Members. Hot Topics will be discussed by the District Manager and Field Office managers will provide highlights on activities in their offices.

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM Coordinator as provided above. Expedited publication is requested to give the public adequate notice.

Dated: February 1, 2007.
David Wolf,
Acting District Manager.

[FR Doc. E7-1985 Filed 2-6-07; 8:45 am]

BILLING CODE 4310-GG-P